DEPARTMENT OF HEALTH AND HUMAN SERVICES

Administration for Children and Families

Proposed Information Collection Activity; Mother and Infant Home Visiting Program Evaluation (MIHOPE): Long-Term Follow-Up, Kindergarten Data Collection (MIHOPE-K) (OMB #0970-0402)

AGENCY: Office of Planning, Research, and Evaluation, Administration for Children and Families, HHS.

ACTION: Request for public comment.

SUMMARY: The Administration for Children and Families (ACF), in partnership with the Health Resources and Services Administration (HRSA), both of the U.S. Department of Health and Human Services (HHS), is proposing to extend data collection activity as part of the kindergarten phase of the Mother and Infant Home Visiting Program Evaluation Long-Term Follow-Up project (MIHOPE-K). The purpose of MIHOPE-K is to conduct a follow-up study that assesses the long-term impact of the Maternal, Infant, and Early Childhood Home Visiting (MIECHV) Program when the participating children are in kindergarten. This Federal Register notice is seeking to extend data collection for the kindergarten follow-up. The original Federal Register notices for the MIHOPE-K data collection were titled under MIHOPE-Long-Term Follow-Up (MIHOPE-LT).

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: This request for an extension is to complete the following data collection activities for MIHOPE-K: (1) A survey with the child's primary caregiver (who will be the mother if she is available), (2) direct assessments of child development, (3) surveys with the child's teacher, (4) a direct assessment of the caregiver, (5) videotaped interactions between the caregiver and child, (6) a caregiver website to provide current contact information, (7) state child welfare records, and (8) school records. In addition to collecting these data, the MIHOPE-K project will continue to maintain up-to-date consent forms for the collection of administrative data. Future information collection requests and related Federal Register notices will describe future data collection efforts for this project.

Data collected during the kindergarten follow-up study is being used to estimate the effects of MIECHV-funded programs on the following seven domains: (1) Maternal health, (2) child health, (3) child development and school performance, (4) child maltreatment, (5) parenting, (6) crime or domestic violence, and (7) family economic self-sufficiency.

Respondents: The respondents in this extension will include 1,391 families who have not yet participated in the kindergarten follow-up study activities. We have assumed that only 25 percent of respondents will complete the caregiver website. We will also obtain child welfare data from 11 MIHOPE states and school records data from state and local agencies. We have assumed that we will obtain data from 11 states and 5 local education agencies.

Annual Burden Estimates
Instrument | Number of respondents (total over request period) | Number of responses per respondent (total over request period) | Avg. burden per response (in hours) | Total burden (in hours) | Annual burden (in hours)
Burden for previously approved, ongoing data collection
Survey of caregivers | 1,391 | 1 | 0.99 | 1,377 | 689
Direct assessments of children | 1,391 | 1 | 1.33 | 1,850 | 925
Survey of the focal children's teachers | 1,391 | 1 | 0.5 | 696 | 348
Direct assessments of caregivers | 1,391 | 1 | 0.17 | 236 | 118
Videotaped caregiver-child interactions | 2,782 | 1 | 0.25 | 696 | 348
Caregiver website | 348 | 1 | 0.17 | 59 | 30
State child welfare records: data file submission | 11 | 2 | 15 | 330 | 165
School records: data file submission | 16 | 2 | 22.5 | 720 | 360

Estimated Total Annual Burden Hours: 2,983.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act Title V 511 [42 U.S.C. 711]. As extended by the Bipartisan Budget Act of 2018 (Pub. L. 115-123) through FY22.

Mary B. Jones,
ACF/OPRE Certifying Officer.

[FR Doc. 2021-20798 Filed 9-23-21; 8:45 am]

BILLING CODE 4184-74-P